DEPARTMENT OF THE INTERIOR

Fish and Wildlife Service

[FWS-R8-ES-2010-N235; 1112-0000-81440-F2]

Endangered and Threatened Wildlife and Plants; Permit, Santa Barbara County, CA

AGENCY: U.S. Fish and Wildlife Service, Interior.

ACTION: Notice of availability.

SUMMARY: We, the U.S. Fish and Wildlife Service (Service), have received an application from Pacific Renewable Energy Generation LLC (applicant) for an incidental take permit under the Endangered Species Act of 1973, as amended (Act). We are considering issuing an incidental take permit (ITP) that would authorize the applicant's take of the federally endangered El Segundo Blue Butterfly incidental to otherwise lawful activities that would result in the loss of Coast Buckwheat, which serves as butterfly habitat. We invite comments from the public on the application, which includes the Geotechnical Boring Project Habitat Conservation Plan (HCP), and on our preliminary determination that the HCP qualifies as a low-effect plan that is eligible for a categorical exclusion under the National Environmental Policy Act (NEPA) of 1969, as amended.

DATES: To ensure consideration, please send your written comments by November 26, 2010.

ADDRESSES: You may download a copy of the HCP, draft Environmental Action Statement, Low-Effect Screening Form, and related documents on the Internet at http://www.fws.gov/ventura/, or you may request documents by U.S. mail or phone (see below). Please address written comments to Diane K. Noda, Field Supervisor, Ventura Fish and Wildlife Office, U.S. Fish and Wildlife Service, 2493 Portola Road, Suite B, Ventura, CA 93003. You may alternatively send comments by facsimile to (805) 644-3958.

FOR FURTHER INFORMATION CONTACT: Jen Lechuga, HCP Coordinator, at the Ventura address above, or by telephone at (805) 644-1766 extension 224.

SUPPLEMENTARY INFORMATION: We have received an application from Pacific Renewable Energy Generation LLC for an incidental take permit under the Act (16 U.S.C. 1531 et seq.). We are considering issuing an incidental take permit (ITP) that would authorize the applicant's take of the federally endangered El Segundo Blue Butterfly (Euphilotes battoides allyni) incidental to otherwise lawful activities that would result in the loss of 356 plants of Coast Buckwheat, which serves as habitat for El Segundo Blue Butterfly near the west end of the Santa Ynez Mountains, 7 miles south of Lompoc, Santa Barbara County, California. We invite comments from the public on the application and associated documents, and on our preliminary determination that the HCP qualifies as a low-effect plan eligible for categorical exclusion under NEPA.

Background

The El Segundo Blue Butterfly was listed as endangered on June 1, 1976 (41 FR 22041). The Gaviota Tarplant was listed as endangered on March 20, 2000 (65 FR 14888) and has been listed as endangered under the state of California's Endangered Species Act (California Fish and Game Code, Sections 2050 et seq.) since January 1990. Section 9 of the Act (16 U.S.C. 1531 et seq.) and our implementing Federal regulations in the Code of Federal Regulations (CFR) at 50 CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take. “Incidental Take” is defined by the Act as take that is incidental to, and not the purpose of, carrying out of an otherwise lawful activity. Regulations governing incidental take permits for threatened and endangered species are, respectively, in the Code of Federal Regulations at 50 CFR 17.32 and 17.22. Issuance of an ITP also must not jeopardize the existence of federally listed fish, wildlife, or plant species.

The Act's take prohibitions do not apply to federally listed plant species on private lands unless such take would be in violation of State law. In addition to meeting other criteria, the HCP's proposed actions must not jeopardize the existence of federally listed fish, wildlife, or plants. The applicant has submitted an application to the California Department of Fish and Game for an incidental take permit pursuant to the California Endangered Species Act.

The applicant proposes to conduct 43 geotechnical borings about 8 miles northwest of Point Conception, near the west end of the Santa Ynez Mountains, and 7 miles south of Lompoc, Santa Barbara County, California. The geotechnical borings will provide the data necessary to develop and complete the design and engineering plans for the Lompoc Wind Energy Project. Phase II of the Lompoc Wind Energy Project would involve the construction and operation of wind turbines. Any potential impacts to listed species caused by the construction and operation of the Lompoc Wind Energy Project will be addressed through a subsequent consultation or permitting process under the Act. The geotechnical boring project is viewed as a discrete action because it does not guarantee that Phase II would occur. The proposed project would result in temporary direct impacts to 0.69 acres of El Segundo Blue Butterfly habitat and 0.64 acres of the Gaviota Tarplant habitat.

The applicant proposes to implement the following measures to minimize and mitigate for the loss of El Segundo Blue Butterfly habitat and Gaviota Tarplant within the permit area: (1) Establish a permanent conservation area that will preserve 712 coast buckwheat plants through a conservation easement and provide for the management of the area; (2) restore degraded native Central Coastal Scrub and Grassland habitats within the conservation area; (3) enhance 0.49 acres of Gaviota Tarplant; (4) design access routes to boring sites to minimize impacts to Gaviota Tarplant areas; (5) minimize ground disturbance; (6) use silt fencing and soil salvaging techniques to minimize impacts to the El Segundo Blue Butterfly and Gaviota Tarplant; (7) avoid flight season of the El Segundo Blue Butterfly; (8) conduct dust control, relocation of El Segundo Blue Butterflies, staging, and boundary delineation to minimize El Segundo Blue Butterfly impacts; and (9) conduct ongoing monitoring for both species to track compliance with the permit, the effects of the permitted activities, and effectiveness of the mitigation measures.

In the proposed HCP, the applicant considers two alternatives to the taking of the El Segundo Blue Butterfly and Gaviota Tarplant. The No Action alternative would maintain current conditions, the project would not be implemented, no impacts to the El Segundo Blue Butterfly and Gaviota Tarplant would occur, and an incidental take permit application would not be submitted to the Service. The second alternative would involve helicopter access to the site, which would eliminate the risk of driving over the listed plant species.

We are requesting comments on our preliminary determination that the applicant's proposal will have a minor or negligible effect on the species covered in the plan, and that the plan qualifies as a “low-effect” HCP as defined by our Habitat Conservation Planning Handbook (November 1996). We base our determination that the HCP qualifies as a low-effect HCP on the following three criteria: (1) Implementation of the applicant's project description in the HCP would result in minor or negligible effects on federally listed, proposed, and candidate species and their habitats; (2) implementation of the HCP would result in minor or negligible effects on other environmental values or resources; and (3) impacts of the HCP—considered together with the impacts of other past, present, and reasonably foreseeable similarly situated projects—would not result, over time, in cumulative effects to the environmental values or resources that would be considered significant. Based upon our analysis of these criteria, we have made a preliminary determination that the approval of the HCP and issuance of an ITP qualify for categorical exclusions under the NEPA (42 U.S.C. 4321 et seq.), as provided by the Department of Interior Manual (516 DM 2 Appendix 2 and 516 DM 8). Based upon our review of public comments that we receive in response to this notice, this preliminary determination may be revised.

Next Steps

We will evaluate the HCP and comments we receive to determine whether the ITP application meets the requirements of section 10(a)(1)(B) of the Act and implementing regulations (50 CFR 17.22). We will also evaluate whether issuance of a section 10(a)(1)(B) permit would comply with section 7 of the Act by conducting an intra-Service section 7 consultation. We will use the results of this consultation, in combination with the above findings, in our final analysis to determine whether or not to issue an ITP. If the requirements are met, we will issue the ITP to the applicant for the incidental take of the El Segundo Blue Butterfly. We will make the final permit decision no sooner than 30 days after the date of this notice.

Public Comments

If you wish to comment on the permit application, HCP, and associated documents, you may submit comments by any one of the methods in ADDRESSES.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

We provide this notice under section 10 of the Act (U.S.C. 1531 et seq.) and NEPA regulations (40 CFR 1506.6).

Dated: October 19, 2010.
Diane K. Noda,
Field Supervisor, Ventura Fish and Wildlife Office, Ventura, California.

[FR Doc. 2010-27002 Filed 10-25-10; 8:45 am]

BILLING CODE 4310-55-P